DEPARTMENT OF THE INTERIOR

Bureau of Land Management

[223.LLHQ230000.L11700000.PI0000.LXSGCO000000]

Notice of Intent To Amend Land Use Plans Regarding Greater Sage-Grouse Conservation and Prepare Associated Environmental Impact Statements

AGENCY: Bureau of Land Management, Interior.

ACTION: Notice of intent.

SUMMARY: In compliance with the National Environmental Policy Act of 1969, as amended (NEPA), and the Federal Land Policy and Management Act of 1976, as amended (FLPMA), the Bureau of Land Management (BLM) intends to address the management of Greater sage-grouse (GRSG) and sagebrush habitat on BLM-managed public lands in the States of California, Colorado, Idaho, Montana, Nevada, North Dakota, Oregon, South Dakota, Utah, and Wyoming through a land use planning initiative. The BLM will prepare environmental impact statements to support the planning initiative, and by this notice is announcing the beginning of the scoping process to solicit public comments on the planning initiative.

DATES: Comments may be submitted in writing until February 7, 2022. The date(s) and location(s) of any public meetings associated with this land use planning initiative will be announced at least 15 days in advance through local news media, newspapers, and the BLM website at: https://go.usa.gov/xMtJQ. To afford the BLM the opportunity to consider issues raised by commenters in its analysis, please ensure that your comments are received prior to the close of the 75-day scoping period or 15 days after the last public meeting, whichever is later. The BLM will provide further public involvement opportunities as appropriate, consistent with the NEPA and land use planning processes, including a 90-day comment period on any draft land use plan amendment/environmental impact statement (EIS); and a 30-day public protest period and 60-day Governor's consistency review on any proposed land use plan amendment/final EIS.

ADDRESSES: You may submit comments related to the BLM's intent to amend land use plan decisions regarding management of GRSG and sagebrush habitat on BLM-managed public lands on the BLM website at: https://go.usa.gov/xMtJQ, where pertinent documents may also be examined.

FOR FURTHER INFORMATION CONTACT: Patricia Deibert, National Sage-grouse Coordinator (Acting); email: BLM_HQ_GRSG_Planning@blm.gov; address: 440 W 200 S Suite 500, Salt Lake City, Utah 84101; telephone: 307-757-3709. Persons who use a telecommunications device for the deaf (TDD) may call the Federal Relay Service (FRS) at 1-800-877-8339 to contact Ms. Deibert during normal business hours. The FRS is available 24 hours a day, 7 days a week, to leave a message or question. You will receive a reply during normal business hours.

SUPPLEMENTARY INFORMATION: The BLM amended or revised land use plans in 2014 and 2015 in the States of California, Colorado, Idaho, Montana, Nevada, North Dakota, Oregon, South Dakota, Utah, and Wyoming (2015 Sage-Grouse Plan Amendments) to provide for GRSG conservation on public lands. Subsequently, the BLM amended several of those plans in 2019 in the States of California, Colorado, Idaho, Nevada, Oregon, Utah, and Wyoming (2019 Sage-Grouse Plan Amendments). On October 16, 2019, the United States District Court for the District of Idaho preliminarily enjoined the BLM from implementing the 2019 Sage-Grouse Plan Amendments (Case No. 1:16-CV-83-BLW).

Since the completion of these Sage-Grouse Plan Amendments, the BLM has found that 2019 Sage-Grouse Plan Amendments (and for Montana, North Dakota, and South Dakota, the 2015 Sage-Grouse Plan Amendments) are potentially inconsistent with new science and rapid changes affecting the BLM's management of the public lands, including the effects of climate change (e.g., drought, loss of habitat, more frequent wildland fires, less riparian areas).

The BLM is initiating this land use planning process under the authority of Section 202 of FLPMA and its implementing regulations at 43 CFR part 1600, and in compliance with NEPA, to evaluate alternative management approaches to contribute to the conservation of GRSG and sagebrush habitats and to evaluate the impacts of any land use planning decisions directed toward GRSG and sagebrush habitat conservation. The land use planning process will address the management of GRSG and sagebrush habitat on BLM-managed public lands in the States of California, Colorado, Idaho, Montana, Nevada, North Dakota, Oregon, South Dakota, Utah, and Wyoming.

The public is invited to comment on the BLM's preliminary purpose and need for action, as well as provide data relevant to inform this planning initiative. The BLM's preliminary need is to amend land use plans to address issues related to GRSG land management raised by various interested parties; consider recent developments in relevant science; advance implementation of the Department of the Interior's Climate Action Plan; and address continued GRSG and sagebrush habitat loss and GRSG population declines. The BLM's preliminary purpose is to amend the applicable land use plans to provide for land use decisions that respond to changed conditions related to GRSG land management and provide the BLM with locally relevant decisions that accord with range-wide GRSG conservation goals. The BLM expects to refine this preliminary purpose and need following the review of comments or data received and further review of its own resource information.

To assist the BLM to refine this preliminary purpose and need and formulate the environmental analyses, the public is encouraged to identify any issues, management questions, or concerns for the BLM to address in the land use plan amendments. The BLM invites the public to comment on issues related to the relationship between GRSG and sagebrush habitat management and management for other public land resources and values. The BLM seeks comment on preliminary issues from both range-wide and state-specific perspectives. In particular, the BLM seeks comment on potential alternatives to address land management on BLM-managed public lands related to the following preliminary issues:

• The identification, management, and conservation of the most important GRSG and sagebrush habitat, referred to as “Sagebrush Focal Areas” in the 2015 and 2019 Sage-Grouse Plan Amendments;

• The designation of priority and general habitat management areas for GRSG, and how to adapt these management areas over time, according to the best available science, and how to manage non-habitat within habitat management areas;

• The appropriate habitat objectives for GRSG on public lands, with respect to the diverse habitat conditions across the range of GRSG, including the effects of climate change (e.g., drought conditions);

• The application of the mitigation hierarchy, including compensatory mitigation, to address impacts to GRSG and sagebrush habitat, ensure that additional disturbance will not contribute to GRSG and sagebrush habitat loss and GRSG population declines, and help support the conservation and restoration of resilient habitat;

• The approaches to minimizing disturbance to GRSG and sagebrush habitats, including disturbance/density caps and buffers around important GRSG habitat types (e.g., leks), to ensure appropriate protection for the species while being able to concurrently implement other portions of the BLM's management responsibilities;

• The leasing and development of mineral resources in GRSG and sagebrush habitat, including how to appropriately prioritize and manage such use of the public's resources and how to consider the use of waivers, exceptions, and modifications as related to development of mineral resources;

• The leasing and development of renewable energy resources in GRSG and sagebrush habitat, including associated transmission lines, to support the mitigation of and adaptation to the effects of climate change through both habitat conservation and the expansion of renewable energy:

• The appropriate management of livestock grazing and wild horse and burro populations in GRSG and sagebrush habitat;

• The strategies for conducting effective GRSG and sagebrush habitat restoration on BLM-managed public lands, including constraints on such efforts to avoid unintended consequences to other species' habitats;

• The process to adapt the BLM's management of GRSG and sagebrush habitat to respond to GRSG and sagebrush habitat loss and GRSG population declines;

• The role of wildland fire and invasive species in the management of GRSG and sagebrush habitat, considering the vast acreages lost to wildland fire and invasive species over the last several years;

• The strategies for short- and long-term monitoring of GRSG and sagebrush habitat;

• How new and relevant scientific information affects GRSG and sagebrush habitat management, building upon the existing foundation of science relied upon in the 2015 and 2019 Sage-Grouse Plan Amendments; and

• Whether the BLM should reconsider alternatives from the analyses supporting the 2015 and 2019 Sage-Grouse Plan Amendments.

The BLM also invites the public to nominate or recommend areas that may be considered for designation as areas of critical environmental concern (ACEC), per 43 CFR 1610.7-2. Nominations or recommendation of potential ACECs should be relevant to the preliminary purpose and need of this planning initiative.

The BLM has identified the following preliminary planning criteria and is accepting public input during the scoping period consistent with 43 CFR 1610. 4-2(c):

• The land use plan amendments and associated environmental analyses developed will be completed in compliance with FLPMA and NEPA, respectively;

• The land use plan amendments will be completed in compliance with all relevant Federal laws, Executive Orders, and management policies of the BLM;

• Where existing planning decisions are still valid, those decisions may remain unchanged and be incorporated into the amended land use plans;

• The land use plan amendments will be limited to making land use planning decisions specific to the conservation of GRSG and sagebrush habitats, with consideration of the impacts from climate change;

• The BLM will consider the adequacy of conservation measures for GRSG in existing land use plans;

• The land use plan amendments will be considered with respect to climate change and the accelerating effects that climate change has on GRSG and sagebrush habitats;

• The BLM will strive for consistency, as appropriate, with GRSG conservation plans of other Federal agencies, State agencies, and partners;

• The BLM will endeavor to use current scientific information, research, technologies, and results of inventory, monitoring, and coordination to determine appropriate management strategies that will enhance or restore GRSG and sagebrush habitats;

• Lands addressed in the land use plan amendments will be for BLM-managed public lands (including surface and sub-surface estate, including split estate) in GRSG and sagebrush habitats; and

• The land use plan amendments will recognize valid existing rights.

In addition to public input, the BLM is reviewing the 2015 and 2019 Sage-Grouse Plan Amendments and coordinating with other Federal and State agencies to identify issues that warrant clarification or reconsideration. This review and coordination effort is continuing and will help to refine and inform the scope of the BLM's land use planning initiative, as will input from other stakeholders.

The BLM will work collaboratively with interested parties to identify land use planning decisions that are best suited to local, regional, and national needs and concerns. The BLM will use an interdisciplinary approach including, among others, specialists in the fields of wildlife, threatened and endangered species, rangeland, invasive species, fuels, energy and minerals, and recreation management to develop any land use plan amendment(s) to address the variety of resource issues and concerns identified. The BLM will consider all comments received during this scoping effort and utilize the substantive comments received to identify alternatives, analysis issues, and refinements to the scope of this planning initiative.

The BLM will utilize and coordinate the NEPA and land use planning processes for this planning initiative to help support procedural requirements under the National Historic Preservation Act (54 U.S.C. 306108) and Endangered Species Act (16 U.S.C. 1536). The information about historic and cultural resources and threatened and endangered species within the area potentially affected by the proposed action will assist the BLM in identifying and evaluating impacts to such resources.

The BLM will consult with Indian Tribes on a government-to-government basis in accordance with Executive Order 13175 and other policies. Tribal concerns, including impacts on Indian trust assets and potential impacts to cultural resources, will be given due consideration.

Federal, State, and local agencies, along with Tribes and other stakeholders that may be interested in or affected by the proposed action that the BLM is evaluating, are invited to participate in the scoping process and, if eligible, may request or be requested by the BLM to participate in the development of the EISs as a cooperating agency.

You may submit comments through the methods described in the ADDRESSES section listed earlier. Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

David Jenkins,
Assistant Director, Resources and Planning.

[FR Doc. 2021-25393 Filed 11-19-21; 8:45 am]

BILLING CODE 4310-84-P